POSTAL SERVICE

39 CFR Part 121

Service Standards for Destination Sectional Center Facility Rate Standard Mail; Correction

AGENCY: Postal Service™.

ACTION: Final rule; correction.

SUMMARY: The Postal Service published in the Federal Register of March 5, 2014, a document concerning revisions to the service standards for Standard Mail that is eligible for Destination Sectional Center Facility (DSCF) rates. Inadvertently Table 5 and Table 6 of Appendix A to part 121 were amended to contain incorrect information. This document corrects the information in those Tables.

DATES: Effective: April 10, 2014.

FOR FURTHER INFORMATION CONTACT: Anthony Frost, Industry Engagement and Outreach, at 202-268-8093; or Prathmesh Shah, Processing and Distribution Center Operations, at 404-792-3195.

SUPPLEMENTARY INFORMATION: The Postal Service published a document (FR Doc. 2014-04784) in the Federal Register of March 5, 2014, (79 FR 12390) revising the service standards for Standard Mail that is eligible for DSCF rates. In this document, the “Periodicals” row in Table 5 of Appendix A to part 121, and the “Periodicals” and “Package Services” rows in Table 6 of Appendix A to part 121, were inadvertently amended to contain incorrect information. This document corrects the information in those Tables.

In rule FR Doc. 2014-04784 published on March 5, 2014, (79 FR 12390) make the following correction. At the top of page 12394, correct Tables 5 and 6 to read as follows:

Table 5—Destination Entry Service Standard Day Ranges For Mail to the Contiguous 48 States and the District Of Columbia
Mail class | CONTIGUOUS UNITED STATES: Destination entry (at appropriate facility): DDU (Days) | CONTIGUOUS UNITED STATES: Destination entry (at appropriate facility): SCF (Days) | CONTIGUOUS UNITED STATES: Destination entry (at appropriate facility): ADC (Days) | CONTIGUOUS UNITED STATES: Destination entry (at appropriate facility): NDC (Days)
Periodicals | 1 | 1 | 1-2 | 2-3
Standard Mail | 2 | 3-4 |  | 5
Package Services | 1 | 2 |  | 3

Table 6—Destination Entry Service Standard Day Ranges for Mail to Non-Contiguous States and Territories.
Mail class | Destination entry (at appropriate facility): DDU (Days) | Destination entry (at appropriate facility): SCF (Days): Alaska | Destination entry (at appropriate facility): SCF (Days): Hawaii, Guam, & American Samoa | Destination entry (at appropriate facility): SCF (Days): Puerto Rico & USVI | Destination entry (at appropriate facility): ADC (Days): Alaska | Destination entry (at appropriate facility): ADC (Days): Hawaii, Guam, & American Samoa | Destination entry (at appropriate facility): ADC (Days): Puerto Rico & USVI | Destination entry (at appropriate facility): NDC (Days): Alaska | Destination entry (at appropriate facility): NDC (Days): Hawaii, Guam, & American Samoa | Destination entry (at appropriate facility): NDC (Days): Puerto Rico & USVI
Periodicals | 1 | 1-3 | 1 | 1-3 | 1-4 (AK) 11 (JNU) 11 (KTN) | 1 (HI) 2 (GU) | 1-4 | 10-11 | 10 | 8-10
Standard Mail | 2 | 3-4 | 3-5 | 3-5 |  |  |  | 14 | 13 | 12
Package Services | 1 | 2 | 2-3 | 2-3 |  |  |  | 12 | 11 | 11
AK = Alaska 3-digit ZIP Codes 995-997; JNU = Juneau AK 3-digit ZIP Code 998; KTN = Ketchikan AK 3-digit
ZIP Code 999; HI = Hawaii 3-digit ZIP Codes 967 and 968; GU = Guam 3-digit ZIP Code 969.

Dated: March 10, 2014.
Stanley F. Mires,
Attorney, Legal Policy & Legislative Advice.

[FR Doc. 2014-05572 Filed 3-13-14; 8:45 am]

BILLING CODE 7710-12-P